DEPARTMENT OF THE INTERIOR

Bureau of Ocean Energy Management

[OMB Control Number 1010-0187; Docket ID: BOEM-2023-0004]

Agency Information Collection Activities; Project Planning for the Use of Outer Continental Shelf Sand, Gravel, and Shell Resources in Construction Projects That Qualify for a Negotiated Noncompetitive Agreement

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) Control Number 1010-0187.

DATES: Comments must be received by OMB no later than April 27, 2023.

ADDRESSES: Submit your written comments on this ICR to the OMB's desk officer for the Department of the Interior at www.reginfo.gov/public/do/PRAMain. From the www.reginfo.gov/public/do/PRAMain landing page, find this information collection by selecting “Currently under Review—Open for Public Comments” or by using the search function. Please provide a copy of your comments by parcel delivery to the BOEM Information Collection Clearance Officer, Anna Atkinson, Bureau of Ocean Energy Management, 45600 Woodland Road, Sterling, Virginia 20166; or by email to anna.atkinson@boem.gov. Please reference OMB Control Number 1010-0187 in the subject line of your comments. You may also comment by searching the docket number BOEM-2023-0004 at www.regulations.gov.

FOR FURTHER INFORMATION CONTACT: Anna Atkinson by email at anna.atkinson@boem.gov or by telephone at 703-787-1025. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: “Project Planning for the Use of Outer Continental Shelf Sand, Gravel, and Shell Resources in Construction Projects that Qualify for Negotiated Noncompetitive Agreement.”

Abstract: Under the authority delegated by the Secretary of the Interior, BOEM is authorized, pursuant to section 8(k)(2) of the Outer Continental Shelf (OCS) Lands Act (43 U.S.C. 1337(k)(2)), to convey rights to OCS sand, gravel, and shell resources by negotiated noncompetitive agreement (NNA). These resources are used in shore protection and beach and coastal restoration projects, or in construction projects funded in whole or part by, or authorized by, the Federal Government.

This ICR does not change the 2020 OMB approved information collection.

From January 1, 2020, through February 8, 2023, BOEM issued eight NNAs and two amendments to existing NNAs. For BOEM to continue to meet the needs of local and State governments, information must be acquired to plan for future projects and anticipated workloads. Therefore, BOEM will issue calls for information about needed resources and locations from interested parties to develop and maintain a project schedule. BOEM also requires information to quickly respond to short-notice requests such as during an emergency declaration in the aftermath of a hurricane or tropical storm.

BOEM will publish all ongoing projects on the website https://www.boem.gov/marine-minerals/requests-and-active-leases.

OMB Control Number: 1010-0187.

Form Number: None.

Type of Review: Extension of a currently approved information collection.

Respondents/Affected Public: Potential respondents comprise States, counties, localities, and Tribes.

Total Estimated Number of Annual Responses: 80 responses.

Total Estimated Number of Annual Burden Hours: 200 hours.

Respondent's Obligation: Voluntary.

Frequency of Collection: On occasion or annually.

Total Estimated Annual Non-Hour Burden Cost: None.

Estimated Reporting and Recordkeeping Hour Burden: BOEM estimates that the annual reporting burden for this collection is about 200 hours, assuming an emergency declaration is made each year.

Local Government Compilation: 25 local governments × 1 hour per information collection response × 2 responses annually = 50 hours.

State Government Compilation: 15 State governments × 5 hours per information collection response × 2 responses annually = 150 hours (50 local government hours + 150 State hours = 200 total burden hours).

A Federal Register notice with a 60-day public comment period on this proposed ICR was published on December 23, 2022 (87 FR 78992). BOEM did not receive any comments during the 60-day comment period.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Public Comment Notice: Comments submitted in response to this notice are a matter of public record and will be available for public review on www.reginfo.gov. You should be aware that your entire comment—including your address, phone number, email address, or other personally identifiable information included in your comment—may be made publicly available. Even if BOEM withholds your information in the context of this ICR, your comment is subject to the Freedom of Information Act (FOIA). If your comment is requested under the FOIA, your information will only be withheld if BOEM determines that a FOIA exemption to disclosure applies. BOEM will make such a determination in accordance with the Department of the Interior's (DOI's) FOIA regulations and applicable law.

In order for BOEM to consider withholding from disclosure your personally identifiable information, you must identify, in a cover letter, any information contained in your comments that, if released, would constitute a clearly unwarranted invasion of your personal privacy. You must also briefly describe any possible harmful consequence of the disclosure of information, such as embarrassment, injury, or other harm.

BOEM protects proprietary information in accordance with FOIA (5 U.S.C. 552) and DOI's implementing regulations (43 CFR part 2).

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2023-06320 Filed 3-27-23; 8:45 am]

BILLING CODE 4340-98-P